DEPARTMENT OF HOUSING AND URBAN DEVELOPMENT

[Docket No. FR-5896-N-01]

Multifamily, Health Care Facilities, and Hospital Mortgage Insurance Premiums for Fiscal Year (FY) 2016

AGENCY: Office of the Assistant Secretary for Housing—Federal Housing Commissioner, HUD.

ACTION: Notice.

SUMMARY: In accordance with HUD regulations, this Notice announces the mortgage insurance premiums (MIPs) for Federal Housing Administration (FHA) Multifamily, Health Care Facilities, and Hospital mortgage insurance programs that have commitments to be issued or reissued in FY 2016. FY 2016 MIPs are the same as in FY 2015. This Notice does not apply to loans insured under the Risk Sharing programs of section 542(b) or 542(c) of the Housing and Community Development Act of 1992.

DATES: Effective Date: October 1, 2015.

FOR FURTHER INFORMATION CONTACT: Multifamily Programs: Theodore K. Toon, Director, Office of Multifamily Production, Office of Housing, Department of Housing and Urban Development, 451 7th Street SW., Washington, DC 20410-8000, telephone number 202-402-8386 (this is not a toll free number).

Health Care and Hospital Programs: Roger M. Lukoff, MA, FACHE, Associate Deputy Assistant Secretary, FHA-Office of Healthcare Programs, United States Department of Housing and Urban Development, 451 Seventh Street SW., Room 6264, Washington, DC 20410. Telephone: 202-402-4762, FAX: 202-708-0560. Hearing or speech-impaired individuals may access these numbers via TTY by calling the Federal Relay Service at 800-877-8339 (this is a toll-free number).

SUPPLEMENTARY INFORMATION:

I. Background

HUD's mortgage insurance regulations at 24 CFR 207.254 provide as follows:

Notice of future premium changes will be published in the Federal Register. The Department will propose MIP changes for multifamily mortgage insurance programs and provide a 30-day public comment period for the purpose of accepting comments on whether the proposed changes are appropriate.

This notice announces that the FY 2016 MIPs are the same the FY 2015 MIPs, published in the Federal Register on March 31, 2014 (79 FR 18049). Since HUD is not seeking to implement any premium changes for FY 2016 for the mortgage insurance programs listed in this notice, HUD is not seeking public comment at this time.

II. Positive Credit Subsidy Programs

The Department will continue to suspend issuance and reissuance of commitments under two programs that have previously required positive credit subsidy: Section 221(d)(3) New Construction/Substantial Rehabilitation (NC/SR) for Nonprofit/Cooperative Mortgagors without LIHTC and Section 223(d) Operating Loss Loans for Apartments.

The MIPs to be in effect for FHA Firm Commitments issued or reissued in FY 2016 are shown in the chart below:

Fiscal Year 2016 MIP Rates
Multifamily, healthcare facilities and hospital insurance programs
| Basis points
FHA Multifamily
207 Multifamily Housing New Construction/Sub Rehab without LIHTC | 70
207 Multifamily Housing New Construction/Sub Rehab with LIHTC | 45
207 Manufactured Home Parks without LIHTC | 70
207 Manufactured Home Parks with LIHTC | 45
221(d)(3) New Construction/Substantial Rehabilitation (NC/SR) for Nonprofit/Cooperative mortgagor without LIHTC | N/A
221(d)(3) Limited dividend with LIHTC | 45
221(d)(4) NC/SR without LIHTC | 65
221(d)(4) NC/SR with LIHTC | 45
220 Urban Renewal Housing without LIHTC | 70
220 Urban Renewal Housing with LIHTC | 45
213 Cooperative | 70
207/223(f) Refinance or Purchase for Apartments without LIHTC | 60*
207/223(f) Refinance or Purchase for Apartments with LIHTC | 45*
223(a)(7) Refinance of Apartments without LIHTC | 50**
223(a)(7) Refinance of Apartments with LIHTC | 45**
223d Operating Loss Loan for Apartments | N/A
231 Elderly Housing without LIHTC | 70
231 Elderly Housing with LIHTC | 45
241(a) Supplemental Loans for Apartments/coop without LIHTC | 95
241(a) Supplemental Loans for Apartments/coop with LIHTC | 45
FHA Healthcare Facilities (Nursing Homes, ALF & B&C)
232 NC/SR Healthcare Facilities without LIHTC | 77
232 NC/SR—Assisted Living Facilities with LIHTC | 45
232/223(f) Refinance for Healthcare Facilities without LIHTC | 65*
232/223(f) Refinance for Healthcare Facilities with LIHTC | 45*
223(a)(7) Refinance of Healthcare Facilities without LIHTC | 55**
223(a)(7) Refinance of Healthcare Facilities with LIHTC | 45**
223d Operating Loss Loan for Healthcare Facilities | 95
241(a) Supplemental Loans for Healthcare Facilities without LIHTC | 72
241(a) Supplemental Loans for Healthcare Facilities with LIHTC | 45
FHA Hospitals
242 Hospitals | 70
223(a)(7) Refinance of Existing FHA-insured Hospital | 55**
223(f) Refinance or Purchase of Existing Non-FHA-insured Hospital | 65*
241(a) Supplemental Loans for Hospitals | 65
*The first-year or upfront MIP fee for loans insured under Section 223(f) for Multifamily, Health Care Facilities, and Hospital programs is 100 basis (one percent) points. The annual MIP amounts are otherwise shown above for the respective Section 223(f) programs.
**The first-year or upfront MIP fee for loans under Section 223(a)(7) for Multifamily, Health Care Facilities, and Hospital programs is 50 basis points. The annual MIP amounts are otherwise shown above for the respective Section 223(a)(7) programs.

Dated: September 28, 2015.
Edward L. Golding,
Assistant Secretary for Housing.

[FR Doc. 2015-25149 Filed 10-1-15; 8:45 am]

BILLING CODE 4210-67-P